DEPARTMENT OF STATE

[Public Notice: 9253]

In the Matter of the Designation of the Revolutionary Organization 17 November aka Epanastatiki Organosi 17 Noemvri, aka 17 November, as a Foreign Terrorist Organization Pursuant to Section 219 of the Immigration and Nationality Act, as Amended

Based upon a review of the Administrative Record assembled in this matter, and in consultation with the Attorney General and the Secretary of the Treasury, I conclude that the circumstances that were the basis for the designation of the Revolutionary Organization 17 November as foreign terrorist organization have changed in such a manner as to warrant revocation of the designation.

Therefore, I hereby determine that the designation of the Revolutionary Organization 17 November as a foreign terrorist organization, pursuant to Section 219 of the Immigration and Nationality Act, as amended (8 U.S.C. 1189), shall be revoked.

This determination shall be published in the Federal Register.

Dated: August 26, 2015.
John F. Kerry,
Secretary of State.

[FR Doc. 2015-21930 Filed 9-2-15; 8:45 am]

BILLING CODE 4710-AD-P